DEPARTMENT OF THE INTERIOR

National Park Service

Notice of Inventory Completion: The Wistar Institute, Philadelphia, PA and Pu'uhonua o Honaunau National Historical Park, Honaunau, HI

AGENCY: National Park Service, Interior.

ACTION: Notice.

Notice is here given in accordance with the Native American Graves Protection and Repatriation Act (NAGPRA), 25 U.S.C. 3003, of the completion of an inventory of human remains in the control of The Wistar Institute, Philadelphia, PA and in the physical custody of the Pu'uhonua o Honaunau National Historical Park, Honaunau, HI. The human remains were removed from the Hawaiian Islands.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Pennsylvania Museum of Archaeology and Anthropology professional staff on behalf of The Wistar Institute in consultation with representatives of the Hawai'i Island Burial Council, Hui Malama I Na Kupuna O Hawai'i Nei, Kauai/Niihau Island Burial Council, Maui/Lanai Island Burial Council, Molokai Island Burial Council, O'ahu Burial Committee, and Office of Hawaiian Affairs. The Wistar Institute retains ownership of these human remains, but has authorized the University of Pennsylvania Museum of Archaeology and Anthropology to handle the NAGPRA process in collaboration with The Wistar Institute and on its behalf.

At an unknown date, but probably around 1905, human remains representing a minimum of one individual were removed from one of the Hawaiian Islands by an unknown person. At an unknown date, the human remains were accessioned into the collections of The Wistar Institute (accession number: 14347). The human remains were transferred to the University of Pennsylvania Museum of Archaeology and Anthropology on a long term loan in 1956 (catalogue number: L-1011-124). On May 12, 2006, at the request of the Hawai'i Island Burial Council and Hui Malama I Na Kupuna O Hawai'i Nei, the human remains were loaned to Pu'uhonua o Honaunau National Historical Park so that the iwi would be on Hawaiian soil pending a determination of its cultural affiliation and completion of the repatriation process. No known individual was identified. No associated funerary objects are present.

The human remains have been identified as Native Hawaiian based on the specific cultural and geographic attribution identified in the museum records. Museum documentation identifies the human remains as those of a male “Hawaiian” whose approximate age is 50 years old and also attributes the human remains to “Sandwich Island.” Scholarly publications and consultation information indicate the term “Sandwich Island” or “Sandwich Islands” refers to the Hawaiian Islands. The term was bestowed upon the Hawaiian Islands by Captain James Cook upon his arrival in the Hawaiian archipelago on January 18, 1778. Subsequently, the indigenous people of the Hawaiian Islands were often referred to as “Sandwich Islanders.” The term “Sandwich Island” fell into disuse in the late 19th century, however, the use of the term supports the identification of this individual as a Native Hawaiian. The morphology of this individual is not inconsistent with its identification as a Native Hawaiian.

Officials of The Wistar Institute and University of Pennsylvania Museum of Archaeology and Anthropology have determined that, pursuant to 25 U.S.C. 3001 (9-10), the human remains described above represent the physical remains of one individual of Native Hawaiian ancestry. Officials of The Wistar Institute and University of Pennsylvania Museum of Archaeology and Anthropology have determined that, pursuant to 25 U.S.C. 3001 (2), there is a relationship of shared group identity that can be reasonably traced between the Native Hawaiian human remains and the Hawai'i Island Burial Council, Hui Malama I Na Kupuna 'O Hawaii Nei, Kauai/Niihau Island Burial Council, Maui/Lani Island Burial Council, Molokai Island Burial Council, O'ahu Island Burial Council, and Office of Hawaiian Affairs.

Representatives of any other Native Hawaiian Organization or Indian tribe that believes itself to be culturally affiliated with the human remains should contact Dr. Gerald Margolis, Interim Director, University of Pennsylvania Museum of Archaeology and Anthropology, 3260 South Street, Philadelphia, PA 19104-6324, telephone (215) 898-4050, before November 30, 2007. Repatriation of the Native Hawaiian human remains to the Hawai'i Island Burial Council, Hui Malama I Na Kupuna O Hawai'i Nei, Kauai/Niihau Island Burial Council, Maui/Lani Island Burial Council, Molokai Island Burial Council, O'ahu Island Burial Council, and the Office of Hawaiian Affairs may proceed after that date if no additional claimants come forward.

The University of Pennsylvania Museum of Archaeology and Anthropology is responsible for notifying the Hawai'i Island Burial Council, Hui Malama I Na Kupuna O Hawai'i Nei, Kauai/Niihau Island Burial Council, Maui/Lani Island Burial Council, Molokai Island Burial Council, O'ahu Island Burial Council, and Office of Hawaiian Affairs that this notice has been published.

Dated: September 10, 2007.
Sherry Hutt,
Manager, National NAGPRA Program.

[FR Doc. E7-21380 Filed 10-30-07; 8:45 am]

BILLING CODE 4312-50-S